DEPARTMENT OF THE INTERIOR

Bureau of Ocean Energy Management

[Docket No. BOEM-2022-0009]

Call for Information and Nominations—Commercial Leasing for Wind Energy Development on the Outer Continental Shelf (OCS) Offshore Oregon

AGENCY: Bureau of Ocean Energy Management (BOEM), Interior.

ACTION: Call for information and nominations; request for comments.

SUMMARY: This call for information and nominations (Call or notice) invites public comment on and assesses interest in possible commercial wind energy leasing on the OCS offshore the Oregon coast. BOEM will consider information received in response to this Call to determine whether to schedule a competitive lease sale or to issue a noncompetitive lease for any portion of the areas described in this Call (Call Areas). Those interested in providing comments and information regarding site conditions, resources, and multiple uses in close proximity to or within the Call Areas should provide the information requested in section 5, “Requested Information from Interested or Affected Parties,” under the Supplementary Information heading of this Call. Those interested in leasing within the Call Areas for a commercial wind energy project should provide the information described in section 6, “Required Nomination Information,” under Supplementary Information. BOEM may or may not offer a lease for a commercial offshore wind energy project within the Call Areas after further government consultations, public participation, and environmental analyses.

DATES: Submissions indicating your nomination of interest in or providing comments on commercial leasing within the Call Areas must be received no later than June 28, 2022. Late submissions may not be considered.

ADDRESSES: Please submit nomination information for commercial leasing as discussed in section 6 entitled “Required Nomination Information” via U.S. Postal Service, FedEx, UPS, or another mail carrier to: Bureau of Ocean Energy Management, Office of Strategic Resources, 760 Paseo Camarillo (Suite 102), Camarillo, California 93010. In addition to a paper copy, please include an electronic copy on any digital data storage device. Do not submit nominations via the Federal eRulemaking Portal. BOEM will list the parties that submitted nominations and the aggregated locations of nominated areas on the BOEM website after BOEM has completed its review of the nominations.

Please submit all other comments and information by either of the following two methods:

1. Federal eRulemaking Portal: http://www.regulations.gov. In the search box at the top of the web page, enter BOEM-2022-0009 and then click “search.” Follow the instructions to submit public comments and view supporting and related materials.

2. U.S. Postal Service or other mail delivery service. Send your comments and other information to the following address: Bureau of Ocean Energy Management, Office of Strategic Resources, 760 Paseo Camarillo (Suite 102), Camarillo, California 93010.

For further information about submitting public comments, please see section 7 entitled “Protection of Privileged, Personal, or Confidential Information.”

FOR FURTHER INFORMATION CONTACT: Dr. Whitney Hauer, Renewable Energy Specialist, BOEM, Office of Strategic Resources, 760 Paseo Camarillo (Suite 102), Camarillo, California 93010, (805) 384-6263 or whitney.hauer@boem.gov.

SUPPLEMENTARY INFORMATION:

1. Authority

This Call is published under subsection 8(p)(3) of the Outer Continental Shelf Lands Act (OCSLA), 43 U.S.C. 1337(p)(3), and its implementing regulations at 30 CFR 585.210 and 585.211.

2. Purpose

An essential part of BOEM's renewable energy leasing process is working closely with State and local governments, Tribes, industry, and ocean users to identify areas that may be suitable for potential offshore wind energy development to power the Nation. This Call serves two important purposes. The first is to collect information and feedback on site conditions, resources, and ocean uses within the identified area. The second is to help BOEM determine competitive interest. BOEM has not yet determined which areas, if any, within the Call Area may be offered for lease. Your input is essential and will help BOEM determine areas that may be suitable for offshore wind energy development. While this is not the only opportunity to provide feedback, it is an important one. There will be multiple opportunities to provide feedback throughout the renewable energy process including if BOEM receives any proposed projects in the future. An explanation of the development of the Call Areas and their detailed descriptions may be found below in sections 3 and 4. For more information about BOEM's competitive and noncompetitive leasing process, please see section 9.

3. Development of the Call Area

BOEM coordinates OCS renewable energy activities offshore Oregon with its Federal, State, local, and federally recognized Tribal government partners through the BOEM Oregon Intergovernmental Renewable Energy Task Force (Task Force). The current Task Force roster and past meeting materials are available at https://www.boem.gov/renewable-energy/state-activities/boem-oregon-intergovernmental-renewable-energy-task-force.

Following a Task Force meeting in September 2019, BOEM and the Oregon Department of Land Conservation and Development (DLCD) drafted the “Data Gathering and Engagement Plan for Offshore Wind Energy in Oregon” (Plan). This Plan outlines how BOEM and the State of Oregon (State) would engage with research organizations and potentially interested and affected parties to gather data and information to inform potential offshore wind energy leasing decisions offshore Oregon. At its meeting in June 2020, the Task Force discussed the Plan, and BOEM and the State committed to conduct offshore wind energy planning. The offshore wind energy planning area within which data and information were to be collected for potential leasing encompassed the OCS offshore Oregon in water depths less than 4,265 feet (1,300 meters) and with average wind speed of at least 15.7 miles per hour (7 meters per second). The area offshore Oregon within these fundamental parameters represents about 6,982,015 acres (10,909 square miles).¹ The Plan was finalized in October 2020 and is available at https://www.boem.gov/BOEM-OR-OSW-Engagement-Plan.

¹ All references to miles in this notice are statute miles unless noted otherwise.

Once an initial area was defined as described above, BOEM and the State, in coordination with DLCD, conducted offshore wind energy planning to inform the identification of the Call Areas and held 75 outreach and engagement meetings from October 2020 through December 2021. BOEM invited nine federally recognized Tribes in Oregon, two federally recognized Tribes in California and five federally recognized Tribes in Washington to engage on the topic of offshore wind energy planning in Oregon. In addition, meetings were held with potentially interested and affected parties, including coastal communities, ocean users, industry, elected officials, environmental organizations, research organizations, and the general public. Six public webinars and workshops were hosted by BOEM in 2021. The webinar recordings and other information are available at https://www.boem.gov/renewable-energy/state-activities/2021-oregon-offshore-wind-energy-planning-public-webinars. BOEM and DLCD also engaged with councils, commissions, and other organizations at their standing meetings when possible. Examples include city councils, Oregon Ocean Policy Advisory Council, Pacific Fishery Management Council, county boards of commissioners, some of the Oregon Seafood Commodity Commissions, and non-governmental organizations. Additional information on those meetings is publicly available and posted at https://www.boem.gov/renewable-energy/state-activities/oregon/boem-and-state-oregon-participation-standing-meetings.

The Oregon Offshore Wind Mapping Tool (OROWindMap) was created by DLCD within the West Coast Ocean Data Portal in partnership with BOEM. This is the data catalog and data visualization tool BOEM used to leverage existing geospatial data to curate a catalog of information specific to offshore wind energy planning on the OCS offshore Oregon and to generate thematic maps that highlight information about natural resources, the physical environment, and human uses on the OCS. OROWindMap is available for public access at https://offshorewind.westcoastoceans.org. Public webinars were included in the outreach effort to introduce the mapping tool and data catalog functions and to provide the public with opportunities to comment, provide feedback, or identify additional data resources for inclusion in the system.

At its October 2021 meeting, the Task Force discussed the data gathering and engagement efforts. The final “Data Gathering and Engagement Summary Report,” available at https://www.boem.gov/OregonDataandEngagementReport2022, outlines the outcome of BOEM's and DLCD's data gathering and engagement efforts undertaken from October 2020 through December 2021. The report also includes input and concerns received from public stakeholders, ocean users, and Tribal engagement meetings regarding offshore wind energy planning in Oregon. In 2022, BOEM continued engagement with over 10 stakeholder meetings.

At its February 2022 meeting, the Task Force discussed the rationale for the identification of Call Areas. BOEM and the Pacific Fishery Management Council's Marine Planning Committee hosted an online work session in March 2022 and solicited public comment.

The identification of the Call Areas is a result of data and information received throughout the planning effort from 2020 through 2022. The Call Areas are focused offshore the south central and southern Oregon coast where the high wind energy resource would contribute to an estimated lower cost of energy and greater potential for commercial viability. The Call Areas are of a sufficient size to allow for refinement during area identification, the next step in the leasing process after the Call. The wind energy areas (WEA) that result from area identification will be smaller than the Call Areas in this notice. The WEA will be the subject of environmental review, including public participation, for possible commercial leasing. In coordination with the State, BOEM is considering 3 gigawatts of near-team commercial development for the first leasing activities offshore Oregon.

BOEM considered the following parameters in the development of Call Areas.

a. Demand for Renewable Energy

The Oregon 100% Clean Energy Law requires Oregon's investor-owned utilities and service suppliers to supply 100 percent greenhouse gas-free electricity by 2040. Commercial offshore wind energy development may contribute to the State and regional energy goals.

b. Suitability for Offshore Wind

i. Wind Resource and Cost of Energy

BOEM considered wind resource modeling from the National Renewable Energy Laboratory (NREL), which indicates that the wind resource offshore Oregon is viable for energy development where the annual average wind speed varies from about 8 meters per second (17.9 miles per hour) in the north to over 11 meters per second (24.6 miles per hour) in the south. These are some of the strongest offshore winds in the country. A map of the average annual wind speed is available at https://bit.ly/3HGBkph. BOEM considered NREL's estimated cost of electricity produced by floating wind energy facilities offshore Oregon, reported as the levelized cost of energy. BOEM identified the Call Areas offshore the south central and southern Oregon coast as likely economically viable for offshore wind energy development based on both the estimated wind resource and cost modeling. Additional information on the cost modeling is available at https://www.boem.gov/PR-20-OWC-presentation.

ii. Seafloor Conditions

The slope of the seafloor affects the suitability of an area for offshore wind energy development. BOEM removed the Rouge canyon system, including canyon floors and walls, from consideration for the Call Areas due to the anticipated engineering challenges. Canyon systems have complex bathymetry and a density of slopes of greater than ten degrees that correlate with increased project cost and complexity. A map of the Rouge canyon delineation with the canyon floors and walls is available at https://bit.ly/3MxdNL9. BOEM is requesting industry feedback on considerations for offshore energy development of mooring systems and subsea transmission cables in areas of steep slope.

iii. Water Depth

Outreach and data gathering efforts conducted by BOEM and the State focused on areas with water depths up to 1,300 meters as a reasonable limit for near-term development of floating offshore wind energy facilities, based on the current technoeconomic feasibility as suggested by NREL in offshore wind cost modeling studies on the West Coast (see Wind resource and cost of energy section). On the westward boundary, partial OCS blocks within the Call Areas include 1,300 meter water depths. Future planning may consider additional areas in water depths greater than 1,300 meters.

iv. Transmission Availability

NREL estimated that approximately 2.6 gigawatts of offshore wind could be physically integrated into Oregon's onshore power system without major trans-coastal upgrades or curtailments if it were distributed along five existing points of interconnection along the Oregon coast. Of the five points of interconnection studied by NREL, Wendson and Fairview are closest to the Call Areas. The NREL study report is available at https://www.boem.gov/BOEM-2021-064.

c. Maritime Navigation

In coordination with the U.S. Coast Guard, BOEM excluded the lanes established for towboats in the long-standing Crabber/Towboat lane agreement, updated in 2019, from Call Area consideration. A map of the lanes established by the agreement is available at https://bit.ly/3HQl0lX. Also, BOEM and the State coordinated on the development of an exclusion buffer where the Call Areas are located beyond 13.8 miles (12 nautical miles) from shore. This reduces potential impacts from wind turbine generators installed offshore to existing nearshore maritime traffic use. This exclusion buffer from shore generally reduces potential visual impacts and many nearshore conflicts with human uses, wildlife, and habitat described below.

d. Subsea Cables

Areas with high concentrations of subsea cables were removed from consideration for the development of the Call Areas. However, areas with individual existing subsea cables were not excluded as they may be avoided within a lease area during project siting. A map of both these cable locations is available at https://bit.ly/3Cad2CD.

e. Commercial Fishing

Fishing activities were considered during the identification of Call Areas to reduce space-use conflicts to the extent practicable. Economic productivity of Oregon's invertebrate fisheries reflects biological productivity and is higher on the continental shelf when compared to the continental slope. Substantial portions of the fishing grounds for Dungeness crab and pink shrimp, the two highest-value fisheries landed in Oregon ports, are avoided by the 13.8 mile exclusion buffer from shore. A map of the Dungeness crab and pink shrimp fishing effort is available at https://bit.ly/36HDgS1. Five offshore banks, some of which are important fishing grounds, were also excluded from Call Area consideration (see Wildlife and habitat section). In the future, vessel monitoring system data and other datasets will be used to identify important fishing ground(s) for fisheries relevant to the Call Areas. Coordination with the National Marine Fisheries Service, the Pacific Fishery Management Council, the Oregon Department of Fish and Wildlife, the fishing industry and individual members of the fishing community is ongoing and will assist in further reduction of existing space-use conflicts during the planning and leasing process.

f. Wildlife and Habitat

i. Marine Mammals

Potential impacts to multiple protected species and habitats are reduced with the 13.8 mile exclusion buffer from shore. BOEM's current understanding of marine mammal use of Oregon coastal waters includes the following: (a) Gray whale migratory routes are most dense within 6.9 miles from shore; (b) Southern Resident killer whale habitat occurs within 11.5 miles from shore along the Oregon coastline to 656 feet (200 meters) water depths; (c) humpback whales are generally concentrated in water depths up to 328 feet (100 meters), with highest densities of occurring near the Farallones, offshore central California, and in Monterey Bay. A map of the gray whale migration corridor and the Southern Resident killer whale critical habitat is available at https://bit.ly/3MkWMmW. Other Endangered Species Act (ESA) protected species include sperm, blue, fin, and sei whales, which will be further considered during the planning and leasing process.

ii. Sea Turtles

Leatherback sea turtle critical habitat includes approximately 16,910 square miles (43,798 square kilometers) stretching along the California coast from Point Arena to Cape Blanco, Oregon, east of the 6,561 foot (2,000 meter) depth contour. A map is available at https://bit.ly/3tFOQEm. Other ESA protected species include loggerhead and olive ridley sea turtles. Potential impacts are reduced with the 13.8 mile exclusion buffer from shore, however, potential impacts to sea turtles will be further evaluated during the planning and leasing process.

iii. Marine Birds

Avian diversity and density generally decrease with distance from shore. The National Audubon Society identified Heceta, Stonewall, and Perpetua Banks as “Important Bird Areas,” (http://www.audubon.org/important-bird-areas) citing the combination of productive waters and the activity of fishing boats drawing a diversity of seabirds. These three banks were removed from consideration for the Call Areas. ESA protected bird species offshore or along the coast of Oregon include the endangered Short-tailed Albatross and Hawaiian Petrel; threatened species include the Marbled Murrelet and Western Snowy Plover. Potential impacts to all these species will be further considered during the planning and leasing process.

iv. Marine Habitats

The majority of the seabed within the Call Areas consists of soft sediments, with sandy habitats more common in shallow depths and mud habitats becoming dominant as depth increases. Rock outcrops may form reefs at any depth and occur over a much smaller percentage of the seabed, but are often concentrated in offshore banks. Carbonate reefs can form where methane seeps occur. Biodiversity and biological productivity show the highest values in reef habitats and in nearshore environments. Therefore, in addition to Heceta, Stonewall, and Perpetua Banks, Siltcoos and Coquille Banks were also excluded from consideration for the Call Areas due to their biodiversity. BOEM will continue to coordinate with DLCD on the definition and locations of sensitive or highly productive habitats and anticipates removing such areas during the planning and leasing process.

g. Submerged Landforms

During the Late Pleistocene, at the Last Glacial Maximum (20,000 years before present), the glaciers that covered vast portions of the Earth's surface sequestered massive amounts of water as ice and lowered global sea level approximately 426 feet (130 meters). Federally recognized Tribes, including the Confederated Tribes of Coos, Lower Umpqua and Siuslaw Indians, expressed the importance of avoiding terrestrial archeological resources that may be associated with submerged landforms features on the OCS. Based on the current understanding of sea level rise and modelling of the potential for locating intact submerged landform features, the majority of the identified Call Areas are in water depths greater than 130 meters, thereby avoiding most potential submerged landform features. Prior to approving any seafloor disturbing activities, archaeological surveys would be required to identify potential intact submerged landform features and further avoid or minimize impacts to those areas. An inventory and analysis of the occurrence of submerged archaeological site potential on the Pacific OCS is available at https://www.boem.gov/sites/default/files/environmental-stewardship/Environmental-Studies/Pacific-Region/Studies/pc-11-01.pdf.

h. Viewshed

The Oregon coastline contains various natural areas, lighthouses, beaches, and other public spaces with viewsheds that include the Call Areas. Certain areas along the Oregon coast and offshore are also significant to the creation stories and religious beliefs of Native Americans. Excluding areas inshore of 13.8 miles of the coast reduces but may not eliminate viewshed concerns. A map of the State's special area viewsheds and scenic class value viewsheds are available at https://bit.ly/3Cc0RFn. Viewshed will continue to be evaluated and considered during the planning and leasing process.

i. Tribal Considerations

The Call Areas were chosen in part to minimize the potential impacts identified by federally recognized Tribes, including impacts to submerged landforms, resident and migratory species use, viewshed, and traditional cultural properties. Federally recognized Tribes with ancestral territory in Oregon or interest in Oregon offshore wind energy planning are invited to engage in government-to-government consultation with BOEM during the planning and leasing process to inform potential leasing decisions.

j. Department of Defense Considerations

The Department of Defense conducts offshore military training and operations within the Call Areas. The Department of Defense is currently assessing the mission compatibility of potential development in the Oregon Call Areas. BOEM will continue coordinating with the Department of Defense to explore mission compatible areas within the Call Areas.

BOEM will use information and feedback resulting from this Call to inform the delineation of WEAs for environmental reviews for potential offshore wind leasing. BOEM anticipates developing and imposing terms and conditions—including any measures necessary to mitigate potential impacts—at the leasing, site assessment, and/or construction and operations phases of its authorization process. The terms and conditions for offshore renewable energy leases granted and approved plans are available to the public and are posted to the BOEM State Activity web pages available at https://www.boem.gov/renewable-energy/state-activities.

4. Description of Call Areas

Two Call Areas are included in this notice. From north to south, they are the Coos Bay Call Area and the Brookings Call Area, which total about 1,159,298 acres (1,811 square miles) located offshore south-central and southern Oregon, respectively. The estimated offshore wind capacity of both Call Areas is about 14 gigawatts, assuming a power density of approximately 0.012 megawatts per acre (3 megawatts per square kilometer). The Call Areas are described geographically in this section. A map of the Call Areas and associated geographic information system (GIS) files can be found at https://www.boem.gov/Oregon.

a. Coos Bay Call Area

The boundary of the Coos Bay Call Area begins 13.8 miles offshore Charleston, Oregon, and extends to about 65 miles offshore. The eastern boundary water depth ranges from about 394 to 722 feet (120 to 220 meters). The area is about 67 miles in length from north to south and about 41 miles in width from east to west. The entire area is approximately 872,854 acres (1,364 square miles) and is described in the table below. The estimated offshore wind power capacity is about 10.6 gigawatts.

Official protraction diagram name | Official protraction diagram No. | Block No. | Sub-block
Coos Bay | NK10-01 | 6017 | P.
Coos Bay | NK10-01 | 6018 | All.
Coos Bay | NK10-01 | 6019 | All.
Coos Bay | NK10-01 | 6020 | All.
Coos Bay | NK10-01 | 6021 | All.
Coos Bay | NK10-01 | 6022 | All.
Coos Bay | NK10-01 | 6023 | All.
Coos Bay | NK10-01 | 6024 | All.
Coos Bay | NK10-01 | 6025 | All.
Coos Bay | NK10-01 | 6026 | All.
Coos Bay | NK10-01 | 6027 | All.
Coos Bay | NK10-01 | 6028 | All.
Coos Bay | NK10-01 | 6067 | D.
Coos Bay | NK10-01 | 6068 | All.
Coos Bay | NK10-01 | 6069 | All.
Coos Bay | NK10-01 | 6070 | All.
Coos Bay | NK10-01 | 6071 | All.
Coos Bay | NK10-01 | 6072 | All.
Coos Bay | NK10-01 | 6073 | All.
Coos Bay | NK10-01 | 6074 | All.
Coos Bay | NK10-01 | 6075 | All.
Coos Bay | NK10-01 | 6076 | All.
Coos Bay | NK10-01 | 6077 | All.
Coos Bay | NK10-01 | 6078 | A, B, C, D, E, F, G, I, J, K, M, N, O.
Coos Bay | NK10-01 | 6118 | All.
Coos Bay | NK10-01 | 6119 | All.
Coos Bay | NK10-01 | 6120 | All.
Coos Bay | NK10-01 | 6121 | All.
Coos Bay | NK10-01 | 6122 | All.
Coos Bay | NK10-01 | 6123 | All.
Coos Bay | NK10-01 | 6124 | All.
Coos Bay | NK10-01 | 6125 | All.
Coos Bay | NK10-01 | 6126 | All.
Coos Bay | NK10-01 | 6127 | All.
Coos Bay | NK10-01 | 6128 | A, B, C, E, F, G, I, J, K, M, N, O.
Coos Bay | NK10-01 | 6168 | A, B, C, D, E, F, G, H, I, J, K, L, O, P.
Coos Bay | NK10-01 | 6169 | All.
Coos Bay | NK10-01 | 6170 | All.
Coos Bay | NK10-01 | 6171 | All.
Coos Bay | NK10-01 | 6172 | All.
Coos Bay | NK10-01 | 6173 | All.
Coos Bay | NK10-01 | 6174 | All.
Coos Bay | NK10-01 | 6175 | All.
Coos Bay | NK10-01 | 6176 | All.
Coos Bay | NK10-01 | 6177 | All.
Coos Bay | NK10-01 | 6178 | A, B, E, F, I, J, M, N.
Coos Bay | NK10-01 | 6218 | C, D, G, H, K, L, O, P.
Coos Bay | NK10-01 | 6219 | All.
Coos Bay | NK10-01 | 6220 | All.
Coos Bay | NK10-01 | 6221 | All.
Coos Bay | NK10-01 | 6222 | All.
Coos Bay | NK10-01 | 6223 | All.
Coos Bay | NK10-01 | 6224 | All.
Coos Bay | NK10-01 | 6225 | All.
Coos Bay | NK10-01 | 6226 | All.
Coos Bay | NK10-01 | 6227 | All.
Coos Bay | NK10-01 | 6228 | A, B, E, I, M.
Coos Bay | NK10-01 | 6267 | P.
Coos Bay | NK10-01 | 6268 | B, C, D, E, F, G, H, I, J, K, L, M, N, O, P.
Coos Bay | NK10-01 | 6269 | All.
Coos Bay | NK10-01 | 6270 | All.
Coos Bay | NK10-01 | 6271 | All.
Coos Bay | NK10-01 | 6272 | All.
Coos Bay | NK10-01 | 6273 | All.
Coos Bay | NK10-01 | 6274 | All.
Coos Bay | NK10-01 | 6275 | All.
Coos Bay | NK10-01 | 6276 | All.
Coos Bay | NK10-01 | 6277 | All.
Coos Bay | NK10-01 | 6278 | A.
Coos Bay | NK10-01 | 6317 | D, H, K, L, O, P.
Coos Bay | NK10-01 | 6318 | All.
Coos Bay | NK10-01 | 6319 | All.
Coos Bay | NK10-01 | 6320 | All.
Coos Bay | NK10-01 | 6321 | All.
Coos Bay | NK10-01 | 6322 | All.
Coos Bay | NK10-01 | 6323 | All.
Coos Bay | NK10-01 | 6324 | All.
Coos Bay | NK10-01 | 6325 | All.
Coos Bay | NK10-01 | 6326 | All.
Coos Bay | NK10-01 | 6327 | A, B, C, D, E, F, G, H, I, J, K, M, N, O.
Coos Bay | NK10-01 | 6367 | B, C, D, F, G, H, J, K, L, N, O, P.
Coos Bay | NK10-01 | 6368 | All.
Coos Bay | NK10-01 | 6369 | All.
Coos Bay | NK10-01 | 6370 | All.
Coos Bay | NK10-01 | 6371 | All.
Coos Bay | NK10-01 | 6372 | All.
Coos Bay | NK10-01 | 6373 | All.
Coos Bay | NK10-01 | 6374 | All.
Coos Bay | NK10-01 | 6375 | All.
Coos Bay | NK10-01 | 6376 | All.
Coos Bay | NK10-01 | 6377 | A, B, C, E, F, G, I, J, K, M, N.
Coos Bay | NK10-01 | 6417 | B, C, D, F, G, H, J, K, L, M, N, O, P.
Coos Bay | NK10-01 | 6418 | All.
Coos Bay | NK10-01 | 6419 | All.
Coos Bay | NK10-01 | 6420 | All.
Coos Bay | NK10-01 | 6421 | All.
Coos Bay | NK10-01 | 6422 | All.
Coos Bay | NK10-01 | 6423 | All.
Coos Bay | NK10-01 | 6424 | All.
Coos Bay | NK10-01 | 6425 | All.
Coos Bay | NK10-01 | 6426 | All.
Coos Bay | NK10-01 | 6427 | A, B, E, F, I, M.
Coos Bay | NK10-01 | 6467 | B, C, D, F, G, H, J, K, L.
Coos Bay | NK10-01 | 6468 | All.
Coos Bay | NK10-01 | 6469 | All.
Coos Bay | NK10-01 | 6470 | All.
Coos Bay | NK10-01 | 6471 | All.
Coos Bay | NK10-01 | 6472 | All.
Coos Bay | NK10-01 | 6473 | All.
Coos Bay | NK10-01 | 6474 | All.
Coos Bay | NK10-01 | 6475 | All.
Coos Bay | NK10-01 | 6476 | All.
Coos Bay | NK10-01 | 6477 | A, E.
Coos Bay | NK10-01 | 6516 | H, L, P.
Coos Bay | NK10-01 | 6517 | C, D, E, F, G, H, I, J, K, L, M, N, O, P.
Coos Bay | NK10-01 | 6518 | All.
Coos Bay | NK10-01 | 6519 | All.
Coos Bay | NK10-01 | 6520 | All.
Coos Bay | NK10-01 | 6521 | All.
Coos Bay | NK10-01 | 6522 | All.
Coos Bay | NK10-01 | 6523 | All.
Coos Bay | NK10-01 | 6524 | All.
Coos Bay | NK10-01 | 6525 | All.
Coos Bay | NK10-01 | 6526 | A, B, C, E, F, G, I, J, M.
Coos Bay | NK10-01 | 6567 | All.
Coos Bay | NK10-01 | 6568 | All.
Coos Bay | NK10-01 | 6569 | All.
Coos Bay | NK10-01 | 6570 | All.
Coos Bay | NK10-01 | 6571 | All.
Coos Bay | NK10-01 | 6572 | All.
Coos Bay | NK10-01 | 6573 | All.
Coos Bay | NK10-01 | 6574 | All.
Coos Bay | NK10-01 | 6575 | A, B, C, D, E, F, G, I, J, M, N.
Coos Bay | NK10-01 | 6617 | A, B, C, D, E, F, G, H, J, K, L, N, O, P.
Coos Bay | NK10-01 | 6618 | All.
Coos Bay | NK10-01 | 6619 | All.
Coos Bay | NK10-01 | 6620 | All.
Coos Bay | NK10-01 | 6621 | All.
Coos Bay | NK10-01 | 6622 | All.
Coos Bay | NK10-01 | 6623 | All.
Coos Bay | NK10-01 | 6624 | All.
Coos Bay | NK10-01 | 6625 | A, E.
Coos Bay | NK10-01 | 6667 | O, P.
Coos Bay | NK10-01 | 6668 | All.
Coos Bay | NK10-01 | 6669 | All.
Coos Bay | NK10-01 | 6670 | All.
Coos Bay | NK10-01 | 6671 | All.
Coos Bay | NK10-01 | 6672 | All.
Coos Bay | NK10-01 | 6673 | All.
Coos Bay | NK10-01 | 6674 | A, B, C, E, F, G, I, J, K, M, N, O.
Coos Bay | NK10-01 | 6717 | B, C, D, E, F, G, H, I, J, K, L, M, N, O, P.
Coos Bay | NK10-01 | 6718 | All.
Coos Bay | NK10-01 | 6719 | All.
Coos Bay | NK10-01 | 6720 | All.
Coos Bay | NK10-01 | 6721 | All.
Coos Bay | NK10-01 | 6722 | All.
Coos Bay | NK10-01 | 6723 | All.
Coos Bay | NK10-01 | 6724 | A, B, E, F, I, J, M, N.
Coos Bay | NK10-01 | 6767 | A, B, C, D, E, F, G, H.
Coos Bay | NK10-01 | 6768 | A, B, C, D, E, F, G, H, J, K, L.
Coos Bay | NK10-01 | 6769 | A, B, C, D, E, F, G, H, I, J, K, L.
Coos Bay | NK10-01 | 6770 | A, B, C, D, E, F, G, H, I, J, K, L.
Coos Bay | NK10-01 | 6771 | All.
Coos Bay | NK10-01 | 6772 | All.
Coos Bay | NK10-01 | 6773 | All.
Coos Bay | NK10-01 | 6774 | A, B, E, F, I, J, M, N.
Coos Bay | NK10-01 | 6823 | D.
Coos Bay | NK10-01 | 6824 | A, B, C.
Newport Valley | NL10-10 | 7167 | M, N, O, P.
Newport Valley | NL10-10 | 7168 | M, N, O, P.
Newport Valley | NL10-10 | 7169 | M, N, O, P.
Newport Valley | NL10-10 | 7170 | M, N, O, P.
Newport Valley | NL10-10 | 7171 | M, N, O, P.
Newport Valley | NL10-10 | 7172 | M, N, O, P.
Newport Valley | NL10-10 | 7173 | M, N, O, P.
Newport Valley | NL10-10 | 7174 | M, N, O, P.
Newport Valley | NL10-10 | 7175 | M, N, O, P.
Newport Valley | NL10-10 | 7176 | M, N, O, P.
Newport Valley | NL10-10 | 7177 | M, N, O, P.

b. Brookings Call Area

The boundary of the Brookings Call area begins 13.8 miles offshore Gold Beach and Brookings, Oregon, and extends to about 46 miles offshore. The eastern boundary water depth ranges from about 410 to 1,115 feet (125 to 340 meters). The area is about 46 miles in length from north to south and about 22 miles in width from east to west. The entire area is approximately 286,444 acres (448 square miles) and is described in the table below. The offshore wind energy capacity of the Brookings Call Area is about 3.5 gigawatts.

Official protraction diagram name | Official protraction diagram No. | Block No. | Sub-block
Cape Blanco | NK10-04 | 6522 | P.
Cape Blanco | NK10-04 | 6523 | M, N, O.
Cape Blanco | NK10-04 | 6572 | C, D, E, F, G, H, I, J, K, L, P.
Cape Blanco | NK10-04 | 6573 | A, B, C, E, F, G, I, J, K, M, N, O.
Cape Blanco | NK10-04 | 6622 | D, H, K, L, O, P.
Cape Blanco | NK10-04 | 6623 | A, B, C, E, F, G, I, J, K, M, N, O.
Cape Blanco | NK10-04 | 6672 | B, C, D, F, G, H, I, J, K, L, M, N, O, P.
Cape Blanco | NK10-04 | 6673 | A, B, C, E, F, G, I, J, K, M, N, O.
Cape Blanco | NK10-04 | 6721 | D, G, H, K, L, N, O, P.
Cape Blanco | NK10-04 | 6722 | All.
Cape Blanco | NK10-04 | 6723 | A, B, C, E, F, G, I, J, K, M, N, O.
Cape Blanco | NK10-04 | 6768 | P.
Cape Blanco | NK10-04 | 6769 | G, H, J, K, L, M, N, O, P.
Cape Blanco | NK10-04 | 6770 | E, F, G, H, I, J, K, L, M, N, O, P.
Cape Blanco | NK10-04 | 6771 | All.
Cape Blanco | NK10-04 | 6772 | All.
Cape Blanco | NK10-04 | 6773 | A, B, C, E, F, G, I, J, K, M, N, O.
Cape Blanco | NK10-04 | 6818 | D, G, H, K, L, O, P.
Cape Blanco | NK10-04 | 6819 | All.
Cape Blanco | NK10-04 | 6820 | All.
Cape Blanco | NK10-04 | 6821 | All.
Cape Blanco | NK10-04 | 6822 | All.
Cape Blanco | NK10-04 | 6823 | A, B, C, E, F, G, H, I, J, K, L, M, N, O, P.
Cape Blanco | NK10-04 | 6868 | C, D, G, H, K, L, P.
Cape Blanco | NK10-04 | 6869 | All.
Cape Blanco | NK10-04 | 6870 | All.
Cape Blanco | NK10-04 | 6871 | All.
Cape Blanco | NK10-04 | 6872 | All.
Cape Blanco | NK10-04 | 6873 | All.
Cape Blanco | NK10-04 | 6874 | M.
Cape Blanco | NK10-04 | 6918 | D.
Cape Blanco | NK10-04 | 6919 | All.
Cape Blanco | NK10-04 | 6920 | All.
Cape Blanco | NK10-04 | 6921 | All.
Cape Blanco | NK10-04 | 6922 | All.
Cape Blanco | NK10-04 | 6923 | All.
Cape Blanco | NK10-04 | 6924 | A, E, F, I, J, M, N, O.
Cape Blanco | NK10-04 | 6969 | All.
Cape Blanco | NK10-04 | 6970 | All.
Cape Blanco | NK10-04 | 6971 | All.
Cape Blanco | NK10-04 | 6972 | All.
Cape Blanco | NK10-04 | 6973 | All.
Cape Blanco | NK10-04 | 6974 | A, B, C, E, F, G, I, J, K, M, N, O, P.
Cape Blanco | NK10-04 | 7017 | P.
Cape Blanco | NK10-04 | 7018 | D, G, H, I, J, K, L, M, N, O, P.
Cape Blanco | NK10-04 | 7019 | All.
Cape Blanco | NK10-04 | 7020 | All.
Cape Blanco | NK10-04 | 7021 | All.
Cape Blanco | NK10-04 | 7022 | All.
Cape Blanco | NK10-04 | 7023 | All.
Cape Blanco | NK10-04 | 7024 | All.
Cape Blanco | NK10-04 | 7067 | D, G, H, K, L, N, O, P.
Cape Blanco | NK10-04 | 7068 | All.
Cape Blanco | NK10-04 | 7069 | All.
Cape Blanco | NK10-04 | 7070 | All.
Cape Blanco | NK10-04 | 7071 | All.
Cape Blanco | NK10-04 | 7072 | All.
Cape Blanco | NK10-04 | 7073 | All.
Cape Blanco | NK10-04 | 7074 | All.
Cape Blanco | NK10-04 | 7075 | E, I, M, N.
Cape Blanco | NK10-04 | 7117 | A, B, C, D.
Cape Blanco | NK10-04 | 7118 | A, B, C, D.
Cape Blanco | NK10-04 | 7119 | A, B, C, D.
Cape Blanco | NK10-04 | 7120 | A, B, C, D.
Cape Blanco | NK10-04 | 7121 | A, B, C, D.
Cape Blanco | NK10-04 | 7122 | A, B, C, D.
Cape Blanco | NK10-04 | 7123 | A, B, C, D, F, G, H.
Cape Blanco | NK10-04 | 7124 | A, B, C, D, E, F, G, H.
Cape Blanco | NK10-04 | 7125 | A, B, E, F, G.

A map of the Call Areas and associated GIS files are available at https://www.boem.gov/Oregon.

5. Requested Information From Interested or Affected Parties

As mentioned previously, your feedback is essential to help BOEM identify areas that may be suitable for potential offshore wind development. BOEM requests specific and detailed comments from the public and interested or affected parties regarding the following features, activities, or concerns in or around the Call Areas. Where applicable, spatial information should be submitted in a format compatible with ArcGIS in a coordinate system based on NAD 83 or WGS 84 datums.

a. Geological, geophysical, and biological conditions (including bottom and shallow hazards and live bottom).

b. Known archaeological and/or cultural resource sites on the seabed. Please note that BOEM is required to protect from disclosure certain information related to archaeological and cultural resources. See section 7(c) below with further information about section 304 of the National Historic Preservation Act (NHPA).

c. Historic properties potentially affected by site characterization (e.g., surveys), site assessment (e.g., buoy installation), or commercial wind development. This information will inform BOEM's review of future undertakings under section 106 of the NHPA and under the National Environmental Policy Act (NEPA).

d. Other uses of the OCS in or near the Call Areas, particularly with regard to vessel navigation. Additional information regarding recreational and commercial fisheries including, but not limited to, the use of the areas, the fishing gear types used, seasonal use, and recommendations for reducing use conflicts.

e. Available and pertinent data and information concerning renewable energy resources and environmental conditions.

f. Information relating to visual resources and aesthetics, the potential impacts of wind turbines to those resources, and potential strategies to help mitigate or minimize any visual effects.

g. Other relevant socioeconomic, cultural, biological, and environmental information.

h. Environmental justice information.

i. Offshore wind energy industry feedback on the considerations for offshore energy development in deep waters, including greater than 1,300 meters water depths, and in areas where the seafloor slope is greater than 10 degrees with respect to mooring configurations and subsea transmission cables. Feedback on other development considerations in deep waters, such as available floating technology, transmission distance, water depth, seafloor conditions, and operations and maintenance feasibility and costs.

j. Information on coastal or onshore activities needed to support offshore wind development, such as port and transmission infrastructure, and associated potential impacts to recreation, scenic, cultural, historic, and natural resources, relating to those activities.

k. Any other relevant information BOEM should consider during its planning and decision-making process for the purpose of identifying areas to lease in the Call Areas.

6. Required Nomination Information

If you wish to nominate one or more areas within the Call Areas for a commercial wind energy lease, you must provide the following information for each nomination. BOEM will consider it along with any information received in response to this notice.

a. The BOEM leasing map name and number, or official protraction diagram number, and the specific whole or partial OCS blocks within the Call Areas that you are interested in leasing. For context, BOEM would consider the nomination of an area comprising approximately 82,370 acres (approximately 129 square miles) reasonable, as it would likely be able to support a 1-gigawatt wind facility, assuming a power density of approximately 0.012 megawatts per acre. Nominations that considerably exceed approximately 82,370 acres may be deemed unreasonable and not accepted by BOEM. This information should be submitted as a spatial file compatible with ArcGIS in a coordinate system based on NAD 83 or WGS 84 datums in addition to your hard copy submittal. If your nomination includes one or more partial blocks, please describe those partial blocks in terms of sixteenths (i.e., sub-block) of an OCS block.

b. A description of your objectives and the facilities that you would use to achieve those objectives.

c. A preliminary schedule of proposed activities, including those leading to commercial operations.

d. Available and pertinent data and information concerning renewable energy resources and environmental conditions in each area that you wish to lease, including energy and resource data and information used to evaluate the area. Where applicable, spatial information should be submitted in a format compatible with ArcGIS in a coordinate system based on NAD 83 or WGS 84 datums.

e. Documentation demonstrating that you are legally, technically, and financially qualified to hold a lease in accordance with the requirements in 30 CFR 585.106 and 585.107. Qualification materials should be developed in accordance with the guidelines available at https://www.boem.gov/Renewable-Energy-Qualification-Guidelines/. Legal, technical and financial qualification documents that you provide to BOEM may be made available for public review. If you wish that any part of your qualification documentation be kept confidential, clearly identify what should be kept confidential, explain the basis on which we could do so in the event of a Freedom of Information Act request, and submit it under separate cover (see section 7 entitled “Protection of Privileged, Personal, or Confidential Information,” below).

It is not required to submit a nomination in response to this Call in order to participate in a potential future competitive lease sale offshore Oregon, if BOEM determines that competitive interest exists. You will not be able to participate in such a competitive lease sale, however, unless you demonstrate prior to the sale that you are legally, technically, and financially qualified to hold a BOEM renewable energy lease. To ensure that BOEM has sufficient time to process your qualifications package, you should submit this package during the proposed sale notice 60-day public comment period (see section 9 entitled “BOEM's Planning and Leasing Process,” below).

7. Protection of Privileged, Personal, or Confidential Information

a. Freedom of Information Act

BOEM will protect your privileged or confidential information in accordance with the Freedom of Information Act (FOIA). Exemption 4 of FOIA applies to trade secrets and commercial or financial information that is privileged or confidential. If you wish to protect the confidentiality of such information, clearly label it and request that BOEM treat it as confidential. BOEM will not disclose such information if BOEM determines under 30 CFR 585.113(b) that it qualifies for exemption from disclosure under FOIA. Please label privileged or confidential information with the words “Contains Confidential Information” and consider submitting such information as a separate attachment.

BOEM will not treat as confidential any aggregate summaries of such information or comments not containing such privileged or confidential information. Additionally, BOEM will not treat as confidential (1) the legal title of the nominating entity (for example, the name of your company), or (2) the list of whole or partial blocks that you are nominating. Information that is not labeled as privileged or confidential may be regarded by BOEM as suitable for public release.

b. Personally Identifiable Information

BOEM does not consider anonymous comments; please include your name and address as part of your comment. You should be aware that your entire comment, including your name, address, and any personally identifiable information (PII) included in your comment may be made publicly available. All submissions from identified individuals, businesses, and organizations will be available for public viewing on regulations.gov. For BOEM to withhold your PII from disclosure, you must identify any information contained in your comments that, if released, would constitute a clearly unwarranted invasion of your personal privacy. You must also briefly describe any possible harmful consequences of the disclosure of information, such as embarrassment, injury, or other harm. BOEM is unable to guarantee that it will be able to withhold your information from public view under current law.

c. Section 304 of NHPA (54 U.S.C. 307103(a))

After consultation with the Secretary of the Interior, BOEM is required to withhold the location, character, or ownership of historic resources if it determines that disclosure may, among other things, risk harm to the historic resources or impede the use of a traditional religious site by practitioners. Tribal entities should designate in their submissions information they believe is entitled to protection from disclosure under section 304 of NHPA.

8. BOEM's Environmental Review Process

Before deciding whether and where leases may be issued, BOEM will conduct the planning and leasing process described in section 9. After designating WEAs, BOEM will conduct an environmental analysis under NEPA and is committed to including public scoping periods and a public review and comment period for the analysis. Previously when deciding whether and where renewable energy leases may be issued, BOEM has prepared an environmental assessment (EA) to consider the reasonably foreseeable environmental consequences of activities that take place after leasing, such as site characterization activities (including geophysical, geotechnical, archaeological, and biological surveys) and site assessment activities (including installation of a meteorological tower or meteorological buoy). BOEM may also conduct consultations. These consultations may include, but are not limited to, those required by the Coastal Zone Management Act, the Endangered Species Act, the Magnuson-Stevens Fishery Conservation and Management Act, section 106 of NHPA, and Executive Order 13175—“Consultation and Coordination with Indian Tribal Governments.” Through the NEPA and consultation process, BOEM may identify mitigation measures to minimize possible environmental impacts resulting from project activities, such as impacts to migratory birds, marine mammals, and sea turtles.

Before BOEM allows a lessee to begin construction of a wind energy project on a lease issued within the Call Areas, BOEM will consider the potential environmental consequences of the construction and operation of any wind energy facility under a separate, project-specific environmental review under NEPA. This review will include additional opportunities for public involvement and likely will result in the publication of an environmental impact statement.

9. BOEM's Planning and Leasing Process

a. Determination of Competitive Interest

Subsection 8(p)(3) of the OCSLA (43 U.S.C. 1337(p)(3)) states that “the Secretary shall issue a lease, easement, or right-of-way . . . on a competitive basis unless the Secretary determines after public notice of a proposed lease, easement, or right-of-way that there is no competitive interest.” Accordingly, BOEM must first determine whether there is competitive interest in acquiring a lease to develop offshore wind energy within the Call Area. At the conclusion of the comment period for this Call, BOEM will review the Call nominations received and determine if competitive interest exists in any part area of the Call Areas.

For areas with two or more valid nominations, BOEM may consider proceeding with competitive leasing as described in section 9.b below, “Competitive Leasing Process.” For areas where BOEM determines that there is only one interested entity, BOEM may consider proceeding with noncompetitive leasing, as described in section 9c below, “Noncompetitive Leasing Process.” However, BOEM may also determine there is competitive interest in an area with only a single nomination based on input received in response to this notice, market conditions, and the amount of area available for leasing.

If BOEM determines that competitive interest in certain areas exists and that those areas are appropriate to lease, BOEM may hold one or more competitive lease sales for those areas. In the event BOEM holds a lease sale, all qualified bidders, including bidders that did not submit a nomination in response to this Call, will be eligible to participate in the lease sale.

BOEM reserves the right to not lease nominated areas or to modify nominated areas before offering them for lease.

b. Competitive Leasing Process

BOEM will follow the steps required by 30 CFR 585.211 through 585.225 if it decides to proceed with the competitive leasing process after analyzing the responses to this Call. Those steps are:

(1) Area Identification: Based on the information received in response to this Call, BOEM will determine the level of commercial interest and continue with Area Identification. Area Identification is the process in which BOEM establishes WEAs based on information received on this Call, Task Force input, Tribal input, ocean user input, and stakeholder input. BOEM considers all information received in response to the Call during area identification, including information pertaining to wildlife (including endangered species), Department of Defense, navigational safety, visual impacts, and fishing. BOEM may conduct visual simulations of hypothetical projects to inform the designation of WEAs.

The Call Areas are of a sufficient size to allow for refinement. BOEM, in coordination with the State, is considering 3 gigawatts for near-team commercial development for the first leasing activities offshore Oregon, less than one-fourth of the estimated 14 gigawatts of potential capacity within the Call Areas. The WEAs will be subject to environmental review as described in section 8 above, in consultation with appropriate Federal agencies, federally recognized Tribes, State and local governments, and other interested parties.

(2) Proposed Sale Notice (PSN): If BOEM decides to proceed with a competitive lease sale within the WEA, BOEM will publish a PSN in the Federal Register with a comment period of 60 days. The PSN will describe the areas BOEM intends to offer for leasing and the proposed conditions of sale, auction format, and lease instrument, including lease addenda. Additionally, the PSN will describe the criteria and process for evaluating bids in the auction.

(3) Final Sale Notice (FSN): After considering the comments on the PSN and completion of its NEPA review, if BOEM decides to proceed with a competitive lease sale, it will publish a FSN in the Federal Register at least 30 days before the date of the lease sale.

(4) Bid Submission and Evaluation: Following publication of the FSN in the Federal Register, BOEM will offer the lease areas through a competitive sale process, using procedures specified in the FSN. BOEM will review the sale, including bids and bid deposits, for technical and legal adequacy. BOEM will ensure that bidders have complied with the FSN and all applicable regulations. BOEM reserves the right to reject any or all bids and to withdraw its offer to lease an area, even after bids have been submitted.

(5) Issuance of a Lease: Following identification of the winning bid on a lease area, BOEM will notify the successful bidder and will provide lease documents for signature. BOEM requires a successful bidder to sign and return the lease documents, pay the remainder of the bid, if applicable, and file the required financial assurance within 10-business days of receiving the lease documents. Upon receipt of the required payments, financial assurance, and properly signed lease documents, BOEM may execute a lease with the successful bidder.

c. Noncompetitive Leasing Process

BOEM's noncompetitive leasing process includes the following steps under 30 CFR 585.231 and 585.232:

(1) Determination of No Competitive Interest: If, after evaluating all relevant responses to this Call, BOEM determines competitive interest does not exist in all or a portion of the Call Areas, it may proceed with noncompetitive leasing. BOEM will seek to determine if the sole respondent who nominated a particular area intends to proceed with acquiring the lease. If so, the respondent must submit an acquisition fee. After the acquisition fee is paid, BOEM will publish a determination of no competitive interest in the Federal Register.

(2) Review of Lease Request: BOEM will complete a NEPA review and required consultations as discussed in section 8 entitled “BOEM's Environmental Review Process” before issuing a lease noncompetitively. Specifically, BOEM will coordinate and consult, as appropriate, with relevant Federal agencies, federally recognized Tribes, affected State and local governments, and other affected or interested parties in formulating lease terms, conditions, and stipulations.

(3) Lease Issuance: After completing its review of the lease request, BOEM may offer a noncompetitive lease. Within 10-business days of receiving the lease documents, the respondent must sign them and provide a $100,000 bond to guarantee compliance with all terms and conditions of the lease. Within 45 days of receiving the lease documents, the respondent must pay the first 12 months' rent.

Amanda Lefton,
Director, Bureau of Ocean Energy Management.

[FR Doc. 2022-09000 Filed 4-28-22; 8:45 am]

BILLING CODE 4310-MR-P